DEPARTMENT OF HOMELAND SECURITY

Federal Emergency Management Agency

[Docket ID: FEMA-2023-0015; OMB No. 1660-0040]

Agency Information Collection Activities: Submission for OMB Review, Comment Request; Standard Flood Hazard Determination Form (SFHDF)

AGENCY: Federal Emergency Management Agency, Department of Homeland Security.

ACTION: 30-day notice of revision and request for comments.

SUMMARY: The Federal Emergency Management Agency (FEMA), as part of its continuing effort to reduce paperwork and respondent burden, invites the general public to take this opportunity to comment on a revision of a currently approved information collection. In accordance with the requirements of the Paperwork Reduction Act of 1995, this notice seeks comments concerning the conversion of this information collection to a common form, and the instrument under it which is used by Federally-regulated lending institutions when making, increasing, extending, renewing or purchasing each loan for the purpose of determining whether flood insurance is required and available.

DATES: Comments must be submitted on or before October 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Susan Bernstein, Insurance Specialist, Federal Insurance Directorate, Policyholder Services Division, Marketing and Outreach Branch at (303) 701-3595 or Susan.Bernstein@fema.dhs.gov. You may contact the Information Management Division for copies of the proposed collection of information at email address: FEMA-Information-Collections-Management@fema.dhs.gov.

SUPPLEMENTARY INFORMATION: Section 1365 of the National Flood Insurance Act of 1968 (NFIA) (42 U.S.C. 4104b), as added by section 528 of the National Flood Insurance Reform Act of 1994 (Pub. L. 103-325, Title V), requires that FEMA develop a standard hazard determination form for recording the determination of whether a structure is located within an identified Special Flood Hazard Area and whether flood insurance is available. Regulated lending institutions, Federal agency lenders, the Federal National Mortgage Association, the Federal Home Loan Mortgage Corporation, and the Government National Mortgage Association must complete this form for any loan made, increased, extended, renewed or purchased by these entities. The requirement for Federally-regulated lending institutions to determine whether a building or mobile home securing a loan is located in an area having special flood hazards and whether flood insurance is available has been in effect since the enactment of the Flood Disaster Protection Act of 1973, although the use of a standard form was not required until the enactment of the section 1365 of the NFIA. The establishment of the SFHDF has enabled lenders to provide consistent information.

This proposed information collection previously published in the Federal Register on June 7, 2023, at 88 FR 37259 with a 60-day public comment period. FEMA received two public comments. One comment requested FEMA to finalize the release of the instrument without change by the expiration date and the other comment noted that FEMA must provide the instrument for Federal agencies and others in the private sector to use, but FEMA does not collect any information itself and recommended that FEMA discontinue this information collection and have the other Federal agencies that actually require the use of the form to collect information from the public to create and submit their own information collections for OMB's approval.

FEMA is converting this information collection into a common form collection to reflect more accurately that FEMA is providing this instrument pursuant to statutory mandate for other entities (including other Federal agencies) to use and that FEMA does not use the instrument to collect any information from the public. Other Federal agencies will be able to request approval from OMB to use the common form instrument under this information collection. FEMA will submit this revision to OMB before the current expiration date of September 30, 2023, to prevent the current collection from expiring until OMB can review and approve this conversion. The purpose of this notice is to notify the public that FEMA will submit the information collection abstracted below to the Office of Management and Budget for review and clearance.

Collection of Information

Title: Standard Flood Hazard Determination Form (SFHDF).

Type of Information Collection: Revision of a currently approved information collection.

OMB Number: 1660-0040.

FEMA Forms: FEMA Instruction FI-206-FY-22-102, Standard Flood Hazard Determination Form (SFHDF); FEMA Form FF-206-FY-21-116 (formerly 086-0-32), Standard Flood Hazard Determination Form (SFHDF).

Abstract: This instrument is used by Federally-regulated lending institutions, Federal agency lenders, the Federal National Mortgage Association, the Federal Home Loan Mortgage Corporation, and the Government National Mortgage Association. Federally-regulated lending institutions complete this form when making, increasing, extending, renewing or purchasing each loan for the purpose is of determining whether flood insurance is required and available. FEMA is responsible for maintaining the form and making it available but does not collect any information itself.

Affected Public: Federal Government.

Estimated Number of Respondents: 1.

Estimated Number of Responses: 1.

Estimated Total Annual Burden Hours: 1.

Estimated Total Annual Respondent Cost: $29.

Estimated Respondents' Operation and Maintenance Costs: $0.

Estimated Respondents' Capital and Start-Up Costs: $0.

Estimated Total Annual Cost to the Federal Government: $1,764.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-20982 Filed 9-26-23; 8:45 am]

BILLING CODE 9111-52-P